NATIONAL CAPITAL PLANNING COMMISSION

Public Comment on the Comprehensive Plan for the National Capital: Federal Elements

AGENCY: National Capital Planning Commission.

ACTION: Notice of 60 day public comment period.

SUMMARY: The National Capital Planning Commission (NCPC) has released a draft of the Federal Elements of the Comprehensive Plan for the National Capital: Federal Elements for public review. The Comprehensive Plan for the National Capital: Federal Elements addresses matters relating to Federal Properties and Federal Interests in the National Capital Region, and provides a decision-making framework for actions the NCPC takes on specific plans and proposals submitted by Federal government agencies for the NCPC review required by law. The eight Federal Elements in the Comprehensive Plan include Urban Design (new element), Federal Workplace, Foreign Missions & International Organizations, Transportation, Parks & Open Space, Federal Environment, Historic Preservation, and Visitors & Commemoration. The Comprehensive Plan for the National Capital: Federal Elements provide a statement of principles, goals, and planning policies for the growth and development of the national capital during the next 20 years. The draft update of the Federal Elements will be available online at http://www.ncpc.gov/compplan.

DATES: The public comment period closes on December 7, 2015.

ADDRESSES: Mail written comments or hand deliver comments on the released draft to Comprehensive Plan Public Comment, National Capital Planning Commission, 401 9th Street NW., Suite 500N, Washington, DC 20004.

FOR FURTHER INFORMATION CONTACT: Angela Dupont at (202) 482-7232 or compplan@ncpc.gov.

SUPPLEMENTARY INFORMATION:

Electronic Access and Filing Addresses:

You may submit comments electronically at the public comment portal at http://www.ncpc.gov/compplan.

Authority: 40 U.S.C. 8721(e)(2).

Dated: September 29, 2015.
Anne R. Schuyler,
General Counsel.

[FR Doc. 2015-25453 Filed 10-6-15; 8:45 am]

BILLING CODE 7520-01-P